FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 004220N.

Name: Best Container Express, Inc.

Address: 17238 S. Main Street, Gardena, CA 90248.

Date Revoked: October 19, 2011.

Reason: Failed to maintain a valid bond.

License Number: 4346F.

Name: Reefco Logistics, Inc. dba Reefco Transport dba Foodcareplus.

Address: 314-021 W. Millbrook Road, Raleigh, NC 27609.

Date Revoked: October 24, 2011.

Reason: Voluntarily surrendered license.

License Number: 009681NF.

Name: Transcontinental Maritime Ltd.

Address: 2500 W. Higgins Road, Suite 140-150, Hoffman Estates, IL 60169.

Date Revoked: October 20, 2011.

Reason: Voluntarily surrendered license.

License Number: 012918N.

Name: Freight Options Unlimited.

Address: 14247 East Don Julian Road, City of Industry, CA 91746.

Date Revoked: October 21, 2011.

Reason: Failed to maintain a valid bond.

License Number: 019085F.

Name: Hanjin Logistics, Inc.

Address: 80 East Route 4, Suite 490, Paramus, NJ 07652.

Date Revoked: October 16, 2011.

Reason: Failed to maintain a valid bond.

License Number: 019779N.

Name: Francisca Envios Inc.

Address: 1749 NW 21 Terrace, Miami, FL 33142.

Date Revoked: October 19, 2011.

Reason: Failed to maintain a valid bond.

License Number: 019835N.

Name: AM Worldwide, Inc.

Address: 2928 B Greens Road, Suite 450, Houston, TX 77032.

Date Revoked: October 16, 2011.

Reason: Failed to maintain a valid bond.

License Number: 020675N.

Name: Service Galopando Corp.

Address: 3190 South State Road 7, Bay 5, Miramar, FL 33023.

Date Revoked: October 21, 2011.

Reason: Failed to maintain a valid bond.

License Number: 020786N.

Name: Corafisa Lines Inc.

Address: 2710 Tanya Terrace, Jacksonville, FL 32223.

Date Revoked: October 15, 2011.

Reason: Failed to maintain a valid bond.

License Number: 021774NF.

Name: Champion Cargo Corporation dba Easyglide Corporation dba Wealthline Freight Forwarders.

Address: 3529 NW 82nd Avenue, Doral, FL 33122.

Date Revoked: October 21, 2011.

Reason: Failed to maintain valid bonds.

License Number: 022742F.

Name: Continental Logistic, LLC dba Sur Logistics.

Address: 1322 E. Pacific Coast Highway, Suite B, Wilmington, CA 90744.

Date Revoked: October 20, 2011.

Reason: Failed to maintain a valid bond.

Sandra L. Kusumoto,
Director, Bureau of Certification and Licensing.

[FR Doc. 2011-29660 Filed 11-15-11; 8:45 am]

BILLING CODE 6730-01-P